DEPARTMENT OF COMMERCE

National Oceanic and Atmospheric Administration

50 CFR Part 622

RIN 0648-BD81

Fisheries of the Caribbean, Gulf of Mexico and South Atlantic; Amendment 8 to the Fishery Management Plan for Coral, Coral Reefs, and Live/Hardbottom Habitats of the South Atlantic Region; Correction

AGENCY: National Marine Fisheries Service (NMFS), National Oceanic and Atmospheric Administration (NOAA), Commerce.

ACTION: Notice of availability; correction.

SUMMARY: NMFS published a notice of availability (NOA) for Amendment 8 to the Fishery Management Plan for Coral, Coral Reefs, and Live/Hardbottom Habitats of the South Atlantic Region (FMP) (Amendment 8) on May 20, 2014. Amendment 8, in part, would expand portions of the northern and western boundaries of the Oculina Bank habitat area of particular concern (HAPC) (Oculina Bank HAPC). The NOA stated “Amendment 8 would increase the size of the Oculina Bank HAPC by 405.42 square miles (1,050 square km), for a total area of 694.42 square miles (1,798.5 square km)”. However, this is incorrect. Amendment 8 would actually increase the size of the Oculina Bank HAPC by 343.42 square miles (889.5 square km), for a total area of 632.42 square miles (1,638 square km). This notification corrects these two values published in the NOA.

DATES: The public comment period for the NOA that published at 79 FR 28880, May 20, 2014, ends on July 21, 2014.

FOR FURTHER INFORMATION CONTACT: Anne Marie Eich, 727-824-5305; email: annemarie.eich@noaa.gov.

SUPPLEMENTARY INFORMATION: On May 20, 2014, NMFS published a NOA in the Federal Register (79 FR 28880) for Amendment 8 that would expand portions of the northern and western boundaries of the Oculina Bank HAPC and allow transit through the Oculina Bank HAPC by fishing vessels with rock shrimp onboard; modify vessel monitoring systems requirements for rock shrimp fishermen transiting through the Oculina Bank HAPC; expand a portion of the western boundary of the Stetson Reefs, Savannah and East Florida Lithotherms, and Miami Terrace Deepwater Coral HAPC, including modifications to the shrimp fishery access area 1; and expand a portion of the northern boundary of the Cape Lookout Lophelia Banks Deepwater CHAPC. The purpose of Amendment 8 is to increase protection for deepwater coral based on new information for deepwater coral resources in the South Atlantic. The public comment period for the NOA ends on July 21, 2014.

Need for Correction

During the comment period on the NOA, a member from the public identified to NMFS that the increase of the size of the Oculina Bank HAPC included in the preamble of the NOA was incorrect. NMFS agrees and publishes this notification to correct that mistake.

Correction

In the Federal Register of May 20, 2014, in FR Doc. 2014-11622, on page 28881, in the first column, last paragraph, the fifth sentence is corrected to read as follows:

“If implemented, Amendment 8 would increase the size of the Oculina HAPC by 343.42 square miles (889.5 square km), for a total area of 632.42 square miles (1,638 square km) and would extend these prohibitions to the larger area (except for a limited transit provision described below) and increase the protection of coral.”

Authority: 16 U.S.C. 1801 et seq.

Dated: June 25, 2014.
Emily H. Menashes,
Acting Director, Office of Sustainable Fisheries, National Marine Fisheries Service.

[FR Doc. 2014-15417 Filed 6-30-14; 8:45 am]

BILLING CODE 3510-22-P